DEPARTMENT OF THE INTERIOR

National Park Service

[NPS-WASO-NAGPRA-NPS0034367; PPWOCRADN0-PCU00RP14.R50000]

Notice of Inventory Completion: Eastern Washington University, Cheney, WA

AGENCY: National Park Service, Interior.

ACTION: Notice.

SUMMARY: Eastern Washington University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Eastern Washington University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Eastern Washington University at the address in this notice by September 19, 2022.

FOR FURTHER INFORMATION CONTACT: Kate Valdez, NAGPRA Coordinator, Eastern Washington University, 214 Showalter Hall, Cheney, WA 99004, telephone (509) 359-3116, email vvaldez6@ewu.edu.

SUPPLEMENTARY INFORMATION: Notice is here given in accordance with the Native American Graves Protection and Repatriation Act (NAGPRA), 25 U.S.C. 3003, of the completion of an inventory of human remains and associated funerary objects under the control of Eastern Washington University, Cheney, WA. The human remains and associated funerary objects were removed from Klickitat County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Eastern Washington University professional staff in consultation with representatives of the Confederated Tribes and Bands of the Yakama Nation; Confederated Tribes of the Colville Reservation; Confederated Tribes of the Umatilla Indian Reservation (previously listed as Confederated Tribes of the Umatilla Reservation, Oregon); Confederated Tribes of the Warm Springs Reservation of Oregon; Nez Perce Tribe (previously listed as Nez Perce Tribe of Idaho); and the Wanapum Band, a non-federally recognized Indian group. Hereafter, all the Indian entities listed in this section are referred to as “The Consulted Tribes and Group.”

History and Description of the Remains

In 1953, human remains representing, at minimum, seven individuals were removed from Wakemap Mound (45-KL-26) in Klickitat County, WA, by a University of Washington Field Party led by Mr. Warren Caldwell. In 1966, all the human remains and associated funerary objects removed by Mr. Caldwell were transferred by him to the Burke Museum and formally accessioned (Accn. #1966-86). In 1974, the Burke Museum legally transferred portions of the human remains and funerary objects to Seattle University. In 1992, the human remains of these seven individuals and three associated funerary objects were transferred to Eastern Washington University. No known individuals were identified. The three associated funerary objects are one polished bird bone, one fish vertebra, and one mid-sized mammal long bone.

Between 1955 and 1957, human remains representing, at minimum, 62 individuals were removed from the Congdon Site (45-KL-41) in Klickitat County, WA, by a University of Washington Field Party led by Mr. Robert B. Butler. The Congdon Site was first discovered in the 1930s. In 1955, amateur archeologists continued to disturb the site and find burials. Mr. Butler also began working at the site at this time. The site was simultaneously further disturbed by bulldozing in preparation for the relocation of the railroad. The Congdon Site was considered a mass burial. With human remains commingled and scattered throughout the site, identification of individual burials was impossible. Butler's excavations focused on salvaging human remains; however, no provenience was recorded for the human remains and the excavations have limited field documentation. All the human remains removed by Butler were transferred to the Burke Museum and formally accessioned in 1966 (Accn. #1966-100). In 1974, the Burke Museum legally transferred portions of the human remains from the Congdon Site to Seattle University. In 1992, the human remains of these 62 individuals were transferred to Eastern Washington University. No known individuals were identified. No associated funerary objects are present.

In 1957, human remains representing, at minimum, one individual were removed from the Congdon Site (45-KL-41) in Klickitat County, WA, by Leon Fredrich, who, at the time, was collecting mammals in the area. Mr. Fredrich later sold approximately 200 mammal specimens, along with all the human remains he removed from the Congdon Site to the Burke Museum, where they were formally accessioned in 1963 (Accn. #1963-177). In 1974, the Burke Museum legally transferred portions of the human remains from the Congdon Site to Seattle University. In 1992, the human remains of this one individual were transferred to Eastern Washington University. No known individual was identified. No associated funerary objects are present.

NAGPRA experts representing the Confederated Tribes and Bands of the Yakama Nation, Confederated Tribes of the Colville Reservation and the Wanapum Band identified this site as part of the traditional territory of the Confederated Tribes and Bands of the Yakama Nation, Confederated Tribes of the Umatilla Indian Reservation, Confederated Tribes of the Warm Springs Reservation of Oregon and the Nez Perce Tribe. Wakemap Mound borders the Columbia River in Klickitat County, WA. Early and late published ethnographic documentation indicates that this was the aboriginal territory of the Western Columbia River Sahaptins, Wasco, Wishram, Yakima, Walla Walla, Umatilla, Tenino, and Skin (Daugherty 1973, Hale 1841, Hunn and French 1998, Stern 1998, French and French 1998, Mooney 1896, Murdock 1938, Ray 1936 and 1974, Spier 1936), whose descendants are represented today by the Confederated Tribes and Bands of the Yakama Nation; Confederated Tribes of the Umatilla Indian Reservation (previously listed as Confederated Tribes of the Umatilla Reservation, Oregon); Confederated Tribes of the Warm Springs Reservation of Oregon; and the Nez Perce Tribe (previously listed as Nez Perce Tribe of Idaho).

Determinations Made by the Eastern Washington University

Officials of the Eastern Washington University have determined that:

• Pursuant to 25 U.S.C. 3001(9), the human remains described in this notice represent the physical remains of 70 individuals of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Confederated Tribes and Bands of the Yakama Nation; Confederated Tribes of the Umatilla Indian Reservation (previously listed as Confederated Tribes of the Umatilla Reservation, Oregon); Confederated Tribes of the Warm Springs Reservation of Oregon; and the Nez Perce Tribe (previously listed as Nez Perce Tribe of Idaho) (hereafter referred to as “The Tribes”).

Additional Requestors and Disposition

Lineal descendants or representatives of any Indian Tribe or Native Hawaiian organization not identified in this notice that wish to request transfer of control of these human remains and associated funerary objects should submit a written request with information in support of the request to Kate Valdez, NAGPRA Coordinator, Eastern Washington University, 214 Showalter Hall, Cheney, WA 99004, telephone (509) 359-3116, email vvaldez6@ewu.edu, by September 19, 2022. After that date, if no additional requestors have come forward, transfer of control of the human remains and associated funerary objects to The Tribes may proceed.

Eastern Washington University is responsible for notifying The Consulted Tribes and Group that this notice has been published.

Dated: August 10, 2022.
Melanie O'Brien,
Manager, National NAGPRA Program.

[FR Doc. 2022-17766 Filed 8-17-22; 8:45 am]

BILLING CODE 4312-52-P